DEPARTMENT OF HOUSING AND URBAN DEVELOPMENT

[Docket No.FR-4903-N-05]

Notice of Submission of Proposed Information Collection to OMB:MultiFamily Uniform Physical Inspection Reporting Requirements

AGENCY: Office of the Chief Information Officer, HUD.

ACTION: Notice.

SUMMARY: The proposed information collection requirement described below has been submitted to the Office of Management and Budget (OMB) for review, as required by the Paperwork Reduction Act. The Department is soliciting public comments on the subject proposal.

This information collection is the standardized assessment of the physical and management condition of HUD-held or insured multifamily housing properties and the certification of deficiencies. This revision eliminates the owners' requirement to submit corrective action plans.

DATES: Comments Due Date: March 8, 2004.

ADDRESSES: Interested persons are invited to submit comments regarding this proposal. Comments should refer to the proposal by name and OMB approval number (2502-0369) and should be sent to: Melanie Kadlic, OMB Desk Officer, Office of Management and Budget, Room 10235, New Executive Office Building, Washington, DC 20503; Fax number (202) 395-6974; E-mail Melanie_Kadlic@omb.eop.gov.

FOR FURTHER INFORMATION CONTACT: Wayne Eddins, Reports Management Officer, AYO, Department of Housing and Urban Development, 451 Seventh Street, Southwest, Washington, DC 20410; e-mail Wayne_Eddins@HUD.gov; telephone (202) 708-2374. This is not a toll-free number. Copies of the proposed forms and other available documents submitted to OMB may be obtained from Mr. Eddins or on HUD's Web site at http://www5.hud.gov:63001/po/i/icbts/collectionsearch.cfm.

SUPPLEMENTARY INFORMATION: The Department has submitted the proposal for the collection of information, as described below, to OMB for review, as required by the Paperwork Reduction Act (44 U.S.C. Chapter 35). The notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This notice also lists the following information:

Title of Proposal: MultiFamily Uniform Physical Inspection Reporting Requirements.

OMB Approval Number: 2502-0369.

Form Numbers: None.

Description of the Need for the Information and Its Proposed Use: This information collection is the standardized assessment of the physical and management condition of HUD-held or insured multifamily housing properties and the certification of deficiencies. Eliminates the owners' requirement to submit corrective action plans.

Respondents: Business or other for-profit institutions.

Frequency of Submission: Annually, semiannually, or every three years.

Reporting Burden:

Number of respondents | Annual responses | × | Hours per response | = | Burden hours
12,901 | 12,901 |  | 3 |  | 38,824

Total Estimated Burden Hours: 38,824.

Status: Revision of a currently approved collection.

Authority: Section 3507 of the Paperwork Reduction Act of 1995, 44 U.S.C. 35, as amended.

Dated: January 29, 2004.
Wayne Eddins,
Departmental Reports Management Officer, Office of the Chief Information Officer.

[FR Doc. 04-2347 Filed 2-4-04; 8:45 am]

BILLING CODE 4210-72-P